COMMISSION ON CIVIL RIGHTS

Agenda and Notice of Public Meeting of the New Hampshire Advisory Committee

Notice is hereby given, pursuant to the provisions of the rules and regulations of the U.S. Commission on Civil Rights and the Federal Advisory Committee Act that a planning meeting of the New Hampshire Advisory Committee will convene at 10:30 a.m. on Tuesday, June 29, 2010 at Pierce Law School, 2 White Street, Faculty Lounge, Concord, NH 03301. The purpose of the meeting is to discuss the Committee's work on gender disparities in New Hampshire prisons.

Members of the public are entitled to submit written comments; the comments must be received in the regional office by July 29, 2010. Written comments may be mailed to the Eastern Regional Office, U.S. Commission on Civil Rights, 624 Ninth Street, NW., Suite 740, Washington, DC 20425. They may be faxed to 202-376-7748, or e-mailed to ero@usccr.gov. Persons who desire additional information may contact the Eastern Regional Office at 202-376-7756.

Hearing-impaired persons who will attend the meeting and require the services of a sign language interpreter should contact the Eastern Regional Office at least ten (10) working days before the scheduled date of the meeting.

Records generated from this meeting may be inspected and reproduced at the Eastern Regional Office, as they become available, both before and after the meeting. Persons interested in the work of this advisory committee are directed to the Commission's Web site, http://www.usccr.gov, or may contact the Eastern Regional Office at the above e-mail or street address.

The meeting will be conducted pursuant to the rules and regulations of the Commission and FACA.

Dated in Washington, DC, June 9, 2010.
Peter Minarik,
Acting Chief, Regional Programs Coordination Unit.

[FR Doc. 2010-14309 Filed 6-14-10; 8:45 am]

BILLING CODE 6335-01-P